DEPARTMENT OF ENERGY

Federal Energy Regulatory Commission

[Docket Nos. EG03-66-000, et al.]

Allegheny Energy Supply Conemaugh, LLC; Electric Rate and Corporate Filings.

May 13, 2003.

The following filings have been made with the Commission. The filings are listed in ascending order within each docket classification:

1. Allegheny Energy Supply Conemaugh, LLC

[Docket No. EG03-66-000]

Take notice that on May 7, 2003, Allegheny Energy Supply Conemaugh, LLC filed an amendment to its Application for Determination of Exempt Wholesale Generator Status pursuant to section 32(a)(1) of the Public Utility Holding Company Act of 1935, as amended (PUHCA) to correct the description of the eligible facility.

Comment Date: May 22, 2003.

2. Kinder Morgan Michigan, LLC v. Michigan Electric Transmission Company, LLC

[Docket No. EL03-12-003]

Take notice that on May 7, 2003, Michigan Electric Transmission Company, LLC (METC) submitted for filing with the Federal Energy Regulatory Commission (Commission), a substitute Generator Interconnection & Operating Agreement (GIOA) with Kinder Morgan Michigan LLC in compliance with the Commission's April 22, 2003, Order in Docket No. EL03-12-002.

A copy of the filing was served on all parties compiled on the official service list in Docket No. EL03-12.

Comment Date: May 28, 2003.

3. Kinder Morgan Michigan, LLC v. Michigan Electric Transmission Company, LLC

[Docket No. EL03-12-004]

Take notice that on May 8, 2003, Michigan Electric Transmission Company, LLC (METC) submitted for filing with the Federal Energy Regulatory Commission (Commission), a Generator Interconnection & Operating Agreement (GIOA) with Kinder Morgan Michigan LLC. METC requests that the Commission accept the GIOA and allow it to replace the GIOA submitted by METC on May 7, 2003, in compliance with the Commission's April 22, 2003, Order in Docket No. EL03-12-002. METC explains that the appropriate Order No. 614 designations were inadvertently omitted from the May 7 Compliance Filing, and this submission reflects the appropriate designations. There are no additional changes.

A copy was served on all parties compiled on the official service list in Docket No. EL03-12.

Comment Date: May 29, 2003.

4. Horsehead Industries, Inc.

[ER00-2333-001]

Take notice that on May 6, 2003, Horsehead Industries, Inc., submitted for filing a revised Triennial Market Analysis through its unincorporated division Zinc Corporation of America.

Comment Date: May 27, 2003.

5. Entergy Services, Inc.

[Docket No. ER02-2014-011]

Take notice that on May 7, 2003, Entergy Services, Inc., (Entergy) tendered for filing a Second Informational Report regarding Entergy's implementation of the Generator Operating Limits as required by the Commission's Order issued March 13, 2003, in Docket No. ER02-2014-006.

Comment Date: May 28, 2003.

6. American Electric Power Service Corporation; Commonwealth Edison Company; Dayton Power and Light Company; Virginia Electric and Power Company; PJM Interconnection, L.L.C.

[Docket No. ER03-262-004]

Take notice that on May 7, 2003, New PJM Companies and PJM Interconnection, L.L.C. filed a second errata for a single exhibit that was inadvertently omitted from the filing in Docket No. ER03-262-004 submitted on May 6, 2003.

Comment Date: May 28, 2003.

7. Entergy Services, Inc.

[Docket No. ER03-363-002]

Take notice that on May 2, 2003, Entergy Services, Inc., on behalf of Entergy Arkansas, Inc., Entergy Gulf States, Inc., Entergy Louisiana, Inc., Entergy Mississippi, Inc., and Entergy New Orleans, Inc., (collectively, the Entergy Operating Companies) filed an amendment to its filing for approval of the Long-Term Firm Point-to-Point Transmission Service Agreement between Entergy Services, Inc., as agent for the Entergy Operating Companies, and City Water and Light of The City of Jonesboro, Arkansas.

Comment Date: May 23, 2003.

8. Unitil Power Corp.

[Docket No. ER03-483-001]

Take notice that on May 7, 2003, Unitil Power Corp. submitted for filing information concerning the rate impact of the Amended System Agreement as required by the Commission's letter order issued on March 21, 2003, in Docket No. ER03-483-000.

Unitil Power Corp., states that a copy of the filing was served on the service list in Docket No. ER03-483-000 and on the New Hampshire Public Utilities Commission.

Comment Date: May 28, 2003.

9. Baltimore Gas and Electric Company

[Docket No. ER03-551-001]

Take notice that on May 8, 2003, Baltimore Gas and Electric Company (BGE), submitted for filing a revised Interconnection Agreement dated May 7, 2003, between BGE and Constellation Power Source Generation, Inc., pursuant to Commission Order dated April 10, 2003. BGE states that the revised Interconnection Agreement has been designated as Original Service Schedule No. 871 under PJM's Open Access Transmission Tariff.

Comment Date: May 29, 2003.

10. MidAmerican Energy Company

[Docket No. ER03-825-000]

Take notice that on May 7, 2003, MidAmerican Energy Company (MidAmerican), filed with the Commission a Construction and Expense Reimbursement Agreement with the City of Ames, Iowa (Ames), dated April 30, 2003, in order to facilitate the provisions of service pursuant to MidAmerican's Open Access Transmission Tariff.

MidAmerican requests an effective date of May 8, 2003, for the Agreement with Ames, and accordingly seeks a waiver of the Commission's notice requirement. MidAmerican states that it has served a copy of the filing on Ames, the Iowa Utilities Board, the Illinois Commerce Commission and the South Dakota Public Utilities Commission.

Comment Date: May 28, 2003.

11. Southern California Edison Company

[Docket No. ER03-826-000]

Take notice that on May 7, 2003, Southern California Edison Company (SCE) tendered for filing the amended Service Agreement for Wholesale Distribution Service (Amended Service Agreement) and the amended Added Facilities Agreement (Amended Added Facilities Agreement) between the City of Colton (Colton) and SCE. SCE states that the purpose of the amendments is to reflect required changes to these agreements due to the interconnection of the Agua Mansa Project to Colton's electrical system.

SCE states that copies of this filing were served upon the Public Utilities Commission of the State of California and Colton.

Comment Date: May 28, 2004.

12. Florida Power Corporation

[Docket No. ER03-829-000]

Take notice that on May 7, 2003, Florida Power Corporation (Florida Power) doing business as Progress Energy Florida (Progress Florida), tendered for filing cost support updates for its interchange service agreements pursuant to part 35 of the Commission's regulations. Florida Power states that it also filed revised rate schedule sheets incorporating necessary rate changes reflecting the cost updates. Florida Power indicates that the filing also updates the Real Power Loss Factors in the Open Access Transmission Tariffs of Florida Power and Carolina Power and Light Company.

Florida Power states that copies of the filing letter (which identifies the updated charges) have been served on the counter-parties to the interchange service agreements and the interested state utility commissions. The entire submittal has been posted on the Florida Power and Carolina Power & Light Company Web site at: www.progress-energy.com.

Comment Date: May 28, 2003.

13. Minnesota Power

[Docket No. ER03-831-000]

Take notice that on May 8, 2003, Minnesota Power tendered for filing Original Sheet Nos. 39, 40, 41, and 42 of the Second Revised Rate Schedule FERC No. 125, designated as required by Commission Order No. 614, for wholesale service to the Public Utilities Commission of Brainerd, Minnesota (Brainerd). Minnesota Power states that this filing includes an extension of the term of the Electric Service Agreement between Brainerd and Minnesota Power and a wheeling rate for energy wheeled by Brainerd over Minnesota Power facilities. Minnesota Power requests an effective date of February 28, 2003, for this filing.

Comment Date: May 29, 2003.

14. Alliant Energy Corporate Services, Inc.

[Docket No. ER03-832-000]

Take notice that on May 8, 2003, Alliant Energy Corporate Services, Inc. (Alliant Energy) on behalf of Interstate Power Company (IPC) tendered for filing a Negotiated Capacity Transaction (Agreement) between IPC and Wisconsin Power & Light Company (WPL) for the period May 1 through October 31, 2003. The Agreement was negotiated to provide service under the Alliant Energy System Coordination and Operating Agreement among IES Utilities Inc., IPC, WPL and Alliant Energy.

Comment Date: May 29, 2003.

15. Tampa Electric Company

[Docket No. ER03-834-000]

Take notice that on May 8, 2003, Tampa Electric Company (Tampa Electric) tendered for filing Notices of Cancellation of the service agreements under its Market-Based Sales Tariff with Florida Power Corporation (FPC), Duke Energy Trading and Marketing, L.L.C. (Duke Energy), and Enron Power Marketing, Inc. (Enron). Tampa Electric proposes that the cancellations be made effective on July 7, 2003.

Tampa Electric states that copies of the filing have been served on FPC, Duke Energy, Enron, and the Florida Public Service Commission.

Comment Date: May 29, 2003.

16. PJM Interconnection, L.L.C.

[Docket No. ER03-835-000]

Take notice that on May 8, 2003, PJM Interconnection, L.L.C. (PJM), submitted amendments to the Schedule 2 chart of the PJM Open Access Transmission Tariff (PJM Tariff) to incorporate into the Sixth Revised version of the PJM Tariff the revenue requirements for Reactive Supply and Voltage Control from General Sources Service (Reactive Service) that the Commission accepted for WPS Westwood Generation, LLC (Westwood), Liberty Electric Power, LLC (Liberty), Armstrong Energy Limited Partnership, LLLP (Armstrong), Handsome Lake Energy, LLC (Handsome Lake), Pleasants Energy, LLC (Pleasants) and Safe Harbor Water Power Corporation (Safe Harbor). PJM states that it also filed an amendment to the Schedule 2 chart in the Fifth Revised version of the PJM Tariff to reflect Handsome Lake's revised Reactive Service revenue requirements that were effective prior to the requested effective date of the Sixth Revised version of the PJM Tariff, but not previously incorporated into the Fifth Revised version of the PJM Tariff.

Consistent with the requested effective date of the Sixth Revised version of the PJM Tariff and the effective dates of the Commission's acceptance of the parties' Reactive Service revenue requirements, PJM requests the following effective dates for the revised sheets of the Sixth Revised version of the PJM Tariff filed in this docket: (1) First Revised Sheet No. 230—March 20, 2003, (incorporating Westwood's Liberty's, Armstrong's and Handsome Lake's revenue requirements); and (2) Second Revised Sheet No. 230—April 1, 2003, (incorporating Pleasants' and Safe Harbor's revenue requirements). PJM also requests an effective date of February 1, 2003, for the Eighth Revised Sheet No. 112A of the Fifth Revised volume of the PJM Tariff (incorporating Handsome Lake's revenue requirements).

PJM states that copies of this filing have been served on all PJM members, Westwood, Liberty, Armstrong, Handsome Lake, Pleasants, Safe Harbor, and each state electric utility regulatory commission in the PJM region.

Comment Date: May 29, 2003.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number field to access the document. For assistance, contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-12621 Filed 5-19-03; 8:45 am]

BILLING CODE 6717-01-P